ENVIRONMENTAL PROTECTION AGENCY

[EPA-HQ-ORD-2022-0833; FRL-10463-01-ORD]

Availability of the IRIS Assessment Plan and Protocol for Assessing Cancer Risk From Inhalation Exposure to Cobalt and Cobalt Compounds; Public Science Meeting Postponement

AGENCY: Environmental Protection Agency (EPA).

ACTION: Notice of public meeting postponement.

SUMMARY: The Environmental Protection Agency (EPA) is postponing the public science meeting to discuss the “IRIS Assessment Plan and Protocol for Assessing Cancer Risk from Inhalation Exposure to Cobalt and Cobalt Compounds.” The public science webinar originally scheduled for November 30, 2022 will be postponed and a new meeting date will be scheduled in early 2023. EPA will announce the public meeting date and registration details on the EPA IRIS website (https://www.epa.gov/iris) and via EPA's IRIS listserv. To register for the IRIS listserv, visit IRIS website at https://www.epa.gov/iris/forms/staying-connected-integrated-risk-information-system#connect.

DATES: The public meeting announced in the Federal Register published at 87 FR 68151 on November 14, 2022 is being postponed. A new meeting date will be scheduled in early 2023. The public comment period on the document remains unchanged.

ADDRESSES: EPA will announce the public meeting date and registration details on the EPA IRIS website (https://www.epa.gov/iris) and via EPA's IRIS listserv.

FOR FURTHER INFORMATION CONTACT: For technical information on the draft IRIS Assessment Plan and Protocol for Assessing Cancer Risk From Inhalation Exposure to Cobalt and Cobalt Compounds, contact Mr. Dahnish Shams, CPHEA; telephone: 202-564-2758; or email: shams.dahnish@epa.gov.

Wayne Cascio,
Director, Center for Public Health and Environmental Assessment.

[FR Doc. 2022-26238 Filed 12-1-22; 8:45 am]

BILLING CODE 6560-50-P